DEPARTMENT OF COMMERCE

International Trade Administration

[A-570-114]

Certain Glass Containers From the People's Republic of China: Final Affirmative Determination of Sales at Less Than Fair Value

AGENCY: Enforcement and Compliance, International Trade Administration, Department of Commerce.

SUMMARY: The Department of Commerce (Commerce) determines that certain glass containers (glass containers) from the People's Republic of China (China) are being, or are likely to be, sold in the United States at less than fair value (LTFV).

DATES: Applicable September 18, 2020.

FOR FURTHER INFORMATION CONTACT: Lilit Astvatsatrian or Aleksandras Nakutis, AD/CVD Operations, Office IV, Enforcement and Compliance, International Trade Administration, U.S. Department of Commerce, 1401 Constitution Avenue NW, Washington, DC 20230; telephone: (202) 482-6412 or (202) 482-3147, respectively.

SUPPLEMENTARY INFORMATION:

Background

Commerce published the Preliminary Determination in this investigation on April 29, 2020.¹ In response to ministerial error comments, Commerce amended its preliminary determination on May 22, 2020.² After issuance of the amended preliminary determination, interested parties filed comments and rebuttal comments regarding Commerce's determination. For a complete description of the events that followed the preliminary determination, see the Issues and Decision Memorandum.³

¹ See Certain Glass Containers From the People's Republic of China: Preliminary Affirmative Determination of Sales at Less Than Fair Value, Postponement of Final Determination and Extension of Provisional Measures, 85 FR 23759 (April 20, 2020) (Preliminary Determination).

² See Certain Glass Containers from the People's Republic of China: Amended Preliminary Determination of Sales at Less Than Fair Value, 85 FR 33117 (June 1, 2020).

³ See Memorandum, “Certain Glass Containers from the People's Republic of China: Issues and Decision Memorandum for the Final Affirmative Determination of Sales at Less-Than-Fair-Value,” dated concurrently with, and hereby adopted by, this notice (Issues and Decision Memorandum).

Period of Investigation

The period of investigation (POI) is January 1, 2019 through June 30, 2019.

Scope of the Investigation

The products covered by this investigation are certain glass containers from China. For a complete description of the scope of this investigation, see Appendix I.

Scope Comments

Commerce already addressed all scope comments and rebuttal comments in a memorandum dated May 11, 2020.⁴ We made no changes to the scope since the Preliminary Determination.

⁴ See Memorandum, “Certain Glass Containers from the People's Republic of China: Final Scope Decision Memorandum” dated May 11, 2020.

Analysis of Comments Received

All issues raised in the case and rebuttal briefs that were submitted by parties in this investigation are addressed in the Issues and Decision Memorandum. A list of the issues addressed in the Issues and Decision Memorandum is attached to this notice at Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed and the electronic versions of the Issues and Decision Memorandum are identical in content.

Changes Since the Preliminary Determination

Based on our review and analysis of the comments received from parties, we made certain changes to our calculations of the dumping margins for Huaxing and Qixia Changyu. As a result of these changes, the dumping margin for separate rate companies has also changed. For a discussion of these changes, see the Issues and Decision Memorandum.

Verification

Commerce normally verifies information relied upon in making its final determination, pursuant to section 782(i) of the Tariff Act of 1930, as amended (the Act). However, during the course of this investigation, a Level 4 travel advisory was imposed for all of China, preventing Commerce personnel from traveling to China to conduct verification. Due to this, as well as the impending statutory deadline for the completion of the final determination, Commerce was unable to conduct verifications in this case. Therefore, on June 19, 2020, Commerce cancelled its verifications of the information submitted by the mandatory respondents Guangdong Huaxing Glass Co., Ltd. (Huaxing) and Qixia Changyu Glass Co., Ltd. (Qixia Changyu).⁵

⁵ See Memorandum, “Cancellation of Verification,” dated June 19, 2020.

Pursuant to section 776(a)(2)(D) of the Act, in situations where information has been provided but the information cannot be verified, Commerce may use “facts otherwise available” in reaching the applicable determination. Since we were unable to conduct verifications in this investigation, as facts available we relied upon the record information used in reaching our preliminary determination in reaching our final determination.

China-Wide Entity and Use of Adverse Facts Available

We continue to find that the use of facts available is warranted in determining the rate of the China-wide entity pursuant to sections 776(a)(1) and (a)(2)(A)-(C) of the Act. Further, use of adverse facts available (AFA) is warranted because the China-wide entity did not cooperate to the best of its ability to comply with our requests for information and, accordingly, we applied adverse inferences in selecting from the facts available, pursuant to section 776(b) of the Act and 19 CFR 351.308(a). As AFA, we are assigning the China-wide entity a dumping margin of 255.68 percent, which is the highest petition rate.

Separate Rates

In addition to the mandatory respondents Huaxing and Qixia Changyu, we have continued to grant certain non-individually examined respondents a separate rate. Also, we have continued to deny certain respondents a separate rate. See the Issues and Decision memorandum for details.

In calculating the rate for non-individually examined separate rate respondents in a non-market economy AD investigation, Commerce normally looks to section 735(c)(5)(A) of the Act, which pertains to the calculation of the all-others rate in a market economy AD investigation. Pursuant to section 735(c)(5)(A) of the Act, normally this rate shall be an amount equal to the weighted average of the estimated antidumping duty (AD) rates established for those companies individually examined, excluding zero and de minimis rates and any rates based entirely under section 776 of the Act. Pursuant to the guidance in section 735(c)(5)(A) of the Act, we based the separate rate respondents' dumping margin on the dumping margins that we calculated for the mandatory respondents Huaxing and Qixia Changyu. See the table in the “Final Determination” section of this notice.

Combination Rates

Consistent with the Preliminary Determination and Policy Bulletin 05.1, we calculated combination rates for the respondents that are eligible for a separate rate.⁶

⁶ See Preliminary Determination; and Enforcement and Compliance's Policy Bulletin No. 05.1, regarding, “Separate-Rates Practice and Application of Combination Rates in Antidumping Investigations involving Non-Market Economy Countries,” dated April 4, 2005 (Policy Bulletin 05.1), available on Commerce's website at http://enforcement.trade.gov/policy/bull05-1.pdf.

Final Determination

Commerce determines that the following weighted-average dumping margins exist:

Producer | Exporter | Estimated weighted- average dumping margin (percent)
Guangdong Huaxing Glass Co., Ltd | Guangdong Huaxing Glass Co., Ltd | 44.10
Foshan Huaxing Glass Co., Ltd | Guangdong Huaxing Glass Co., Ltd | 44.10
Qixia Changyu Glass Co., Ltd | Qixia Changyu Glass Co., Ltd | 31.07
Anhui Longrui Glass Co., Ltd | Anhui Longrui Glass Co., Ltd | 35.71
Xuzhou Ruijing Glass Products Co., Ltd | Golden Ace Industrial Co., Ltd | 35.71
Shandong Huapeng Glass Co., Ltd | Happyann Crafts Int'l Co., Ltd | 35.71
Shenyang Hongye Glass Containers Co., Ltd | Happyann Crafts Int'l Co., Ltd | 35.71
Shandong Pharmaceutical Glass Co., Ltd | Hongkong Happyann Trading Company Limited | 35.71
Shandong Jingbo Groups Co., Ltd | Hongkong Happyann Trading Company Limited | 35.71
Taixing Jili Glass Products Co., Ltd | Hongkong Happyann Trading Company Limited | 35.71
Shanxi Qi County Guanghua Glassware Co., Ltd | Meridian International Ltd | 35.71
Hejian Jiarui Glassware Factory | Meridian International Ltd | 35.71
Shijiazhuang Langxu Arts & Crafts Co., Ltd | Meridian International Ltd | 35.71
Xuzhou Youcheng Glass Products Co., Ltd | Photo USA Electronic Graphic Inc. | 35.71
Zibo Deli Glass Products Co., Ltd | Qingdao Gemmy Imp. & Exp. Co., Ltd | 35.71
Shandong Fulong Glass Technology Co., Ltd | Qingdao Gemmy Imp. & Exp. Co., Ltd | 35.71
Shandong Hongda Glass Product Co., Ltd | Qingdao Gemmy Imp. & Exp. Co., Ltd | 35.71
Zibo Shengjie Glass Product Co., Ltd | Qingdao Gemmy Imp. & Exp. Co., Ltd | 35.71
Jinan Guanheping Glass Product Co., Ltd | Qingdao Gemmy Imp. & Exp. Co., Ltd | 35.71
Xuzhou Jiuding Glass Product Co., Ltd | Qingdao Gemmy Imp. & Exp. Co., Ltd | 35.71
Zibo Jiurun Glass Product Co., Ltd | Qingdao Gemmy Imp. & Exp. Co., Ltd | 35.71
Shandong Zibo Boshan Jiuyuan Company | Qingdao Gemmy Imp. & Exp. Co., Ltd | 35.71
Xuzhou Yichen Glass Product Co., Ltd | Qingdao Gemmy Imp. & Exp. Co., Ltd | 35.71
Laiwu Dongjing Industry & Trade Co., Ltd | Qingdao Gemmy Imp. & Exp. Co., Ltd | 35.71
Shandong Dingxin Electronic Glass Group Co., Ltd | Qingdao Huoyan Phoenix Import & Export Co., Ltd | 35.71
Zhejiang Caifu Glass Co., Ltd | Qingdao Huoyan Phoenix Import & Export Co., Ltd | 35.71
Shangdong Changshengtai Glass Products Co., Ltd | Shandong Changshengtai Glass Products Co., Ltd | 35.71
Shandong Dingxin Electronic Glass Group Co., Ltd | Shandong Dingxin Electronic Glass Group Co., Ltd | 35.71
Shandong Hongda Glass Ware Co., Ltd | Shandong Excel Light Industrial Products Co., Ltd | 35.71
Shandong Hongda Glass Ware Co., Ltd | Shandong Glassware Corporation | 35.71
Shangdong Changshengtai Glass Products Co., Ltd | Shandong Glassware Corporation | 35.71
Shandong Luguan Glass Products Co., Ltd | Shandong Glassware Corporation | 35.71
Jinan Yida Glass Products Co., Ltd | Shandong Glassware Corporation | 35.71
Shandong Heishan Glass Group Co., Ltd | Shandong Heishan Glass Group Co., Ltd | 35.71
Shandong Hongda Glass Products Co., Ltd | Shandong Honghan International Trading Co., Ltd | 35.71
Shandong Jusheng Glass Co., Ltd | Shandong Honghan International Trading Co., Ltd | 35.71
Xuzhou Zhuoxin Glass Products Co., Ltd | Shandong Honghan International Trading Co., Ltd | 35.71
Shandong Huapeng Glass Co., Ltd | Shandong Huapeng Glass Co., Ltd | 35.71
Zibo Hongda Glass Products Co., Ltd | Shandong Injoy Houseware Co., Ltd | 35.71
Zibo Zhide Light Industry Products Co., Ltd | Shandong Injoy Houseware Co., Ltd | 35.71
Shandong Fulong Glass Technology Co., Ltd | Shandong Injoy Houseware Co., Ltd | 35.71
Xuzhou Ruijing Glass Products Co., Ltd | Shandong Injoy Houseware Co., Ltd | 35.71
Cao County Jiefeng Crafts Co., Ltd | Shandong Injoy Houseware Co., Ltd | 35.71
Zibo Longsheng Glass Products Co., Ltd | Shandong Injoy Houseware Co., Ltd | 35.71
Zibo Boshan Shengjie Glass Products Co., Ltd | Shandong Injoy Houseware Co., Ltd | 35.71
Shandong Baoxiang Glass Co., Ltd | Shandong Injoy Houseware Co., Ltd | 35.71
Shandong Jiaye General Merchandise Co., Ltd | Shandong Jiaye General Merchandise Co., Ltd | 35.71
Shandong Pharmaceutical Glass Co., Ltd | Shandong Pharmaceutical Glass Co., Ltd | 35.71
Shandong Hongda Glass Factory | Shandong Shine Chin Glassware Co., Ltd | 35.71
Shandong Juli Glass Co. Ltd | Shandong Top-Peak Enterprises Co., Ltd | 35.71
Shandong Wenbao Technology Products Co., Ltd | Shandong Wenbao Technology Products Co., Ltd | 35.71
Changxing Hua Zhong Glass Co., Ltd | Sinoglass Housewares Co., Ltd | 35.71
Xuzhou Xupeng Glass Products Co., Ltd | Xuzhou Credible Glass Products Co., Ltd | 35.71
Xuzhou Sanheshun Glass Products Co., Ltd | Xuzhou Credible Glass Products Co., Ltd | 35.71
Shandong Pharmaceutical Glass Co., Ltd | Xuzhou Das Packing Solutions Co., Ltd | 35.71
Taizhou Paishen Printing Industry Co., Ltd | Xuzhou Das Packing Solutions Co., Ltd | 35.71
Xuzhou Runtong Cap Manufacturing Co., Ltd | Xuzhou Das Packing Solutions Co., Ltd | 35.71
Xuzhou Jiuding Glass Products Co., Ltd | Xuzhou Das Packing Solutions Co., Ltd | 35.71
Xuzhou Juli Bottle Cap Factory | Xuzhou Das Packing Solutions Co., Ltd | 35.71
Yangzhou Jiangyang Plastic Products Factory | Xuzhou Das Packing Solutions Co., Ltd | 35.71
Yiwu Hongyuan Glass Products Co., Ltd | Xuzhou Das Packing Solutions Co., Ltd | 35.71
Xuzhou Zhending Glass Products Co., Ltd | Xuzhou Das Packing Solutions Co., Ltd | 35.71
Xuzhou Rongjian Glass Products Co., Ltd | Xuzhou Das Packing Solutions Co., Ltd | 35.71
Xuzhou Tepu Glass Products Co., Ltd | Xuzhou Das Packing Solutions Co., Ltd | 35.71
Zibo Zhulifei International Trade Co., Ltd | Xuzhou Das Packing Solutions Co., Ltd | 35.71
Nantong Shunyu Packing Materials Co., Ltd | Xuzhou Das Packing Solutions Co., Ltd | 35.71
Ningbo Letao Packing Co., Ltd | Xuzhou Das Packing Solutions Co., Ltd | 35.71
Xuzhou Supeng Yongxu Glass Products Co., Ltd | Xuzhou Huihe International Trade Co., Ltd | 35.71
Yamamura Glass Qinhuangdao Co., Ltd | Yamamura Glass Qinhuangdao Co., Ltd | 35.71
Feicheng Jingying Glass Products Co., Ltd | Zibo Ace International Co., Ltd | 35.71
Zibo Boshan Shengjie Glass Products Co., Ltd | Zibo Ace International Co., Ltd | 35.71
Zibo Anto Glass Industry Co., Ltd | Zibo Anto Glass Industry Co., Ltd | 35.71
Shandong Heishan Glass Group Co., Ltd | Zibo Comm-Mountain Glassware Co., Ltd | 35.71
Yantai NBC Glass Packaging CO., LTD | Zibo Creative International Trade Co., Ltd | 35.71
Shandong Taishan Shengliyuan Glass CO., LTD | Zibo Creative International Trade Co., Ltd | 35.71
Shanghai Esjoi Industry CO., LTD | Zibo Creative International Trade Co., Ltd | 35.71
Longkou Shengda Glass Products CO., LTD | Zibo Creative International Trade Co., Ltd | 35.71
Shandong Pharmaceutical Glass CO., LTD | Zibo Creative International Trade Co., Ltd | 35.71
Qingdao Yutai Pharmaceutical Packaging Technology CO., LTD | Zibo Creative International Trade Co., Ltd | 35.71
Shandong Jingbo Group Co., Ltd | Zibo Creative International Trade Co., Ltd | 35.71
Shandong Huapeng Glass Co., Ltd | Zibo Derola Houseware Co., Ltd | 35.71
Hebei Xinji Tianyu Glass Ltd | Zibo Derola Houseware Co., Ltd | 35.71
Zibo Hongda Glass Products Co., Ltd | Zibo E&T General Merchandise Co., Ltd | 35.71
Xuzhou Hengyi Glass Products Co. LTD. | Zibo Fecund Trading Co., Ltd | 35.71
Xuzhou Yichen Glass Products Co., Ltd | Zibo Fortune Trading Co., Ltd | 35.71
Zibo Longsheng Glass Products Co., Ltd | Zibo Grandeur Light Industrial Products Co., Ltd | 35.71
Shandong Hongda Glass Products Co., Ltd | Zibo Green Light Industrial Co., Ltd | 35.71
Shandong Baoxiang Glass Co., Ltd also known as Zibo Gongmao Glass Factory | Zibo Green Light Industrial Co., Ltd | 35.71
Zibo Haichang Light Industry Products Co., Ltd | Zibo Hicheon Homeware Corp., Ltd | 35.71
Shandong Longyu Glass Co., Ltd | Zibo Hicheon Homeware Corp., Ltd | 35.71
Zibo Hesheng Glass Products Co., Ltd | Zibo Hicheon Homeware Corp., Ltd | 35.71
Xuzhou Xindong Glass Products Co., Ltd | Zibo Hicheon Homeware Corp., Ltd | 35.71
Zibo Jintian Light Industry Products Co., Ltd | Zibo Hicheon Homeware Corp., Ltd | 35.71
Zhangqiu City Huacheng Glass Products Factory | Zibo Hicheon Homeware Corp., Ltd | 35.71
Qingdao Golden Sunshine Paper Products Co., Ltd | Zibo Hicheon Homeware Corp., Ltd | 35.71
Shandong Yiyuan Oukai Glass Products Co., Ltd | Zibo Hicheon Homeware Corp., Ltd | 35.71
Shandong Hongda Glassware Co., Ltd | Zibo Intrue Light Industrial Products Co., Ltd | 35.71
Feicheng Jingying Glass Products Co., Ltd | Zibo Intrue Light Industrial Products Co., Ltd | 35.71
Shandong Changshengtai Glass Products Co., Ltd | Zibo Intrue Light Industrial Products Co., Ltd | 35.71
Jinan Yida Glassware Co., Ltd | Zibo Intrue Light Industrial Products Co., Ltd | 35.71
Jiangsu Luobote Glass Technology Co., Ltd | Zibo Intrue Light Industrial Products Co., Ltd | 35.71
Jiangsu Zheng Mao Glass Technology Co., Ltd | Zibo Intrue Light Industrial Products Co., Ltd | 35.71
Shandong Luguan Glass Co., Ltd | Zibo Intrue Light Industrial Products Co., Ltd | 35.71
Shandong Mount Tai Sheng Li Yuan Glass Co., Ltd | Zibo Intrue Light Industrial Products Co., Ltd | 35.71
Xuzhou Heng Yi Glassware Co., Ltd | Zibo Intrue Light Industrial Products Co., Ltd | 35.71
Jiangsu Honghua Glass Technology Co., Ltd | Zibo Intrue Light Industrial Products Co., Ltd | 35.71
Xuzhou Shengbang Glass Technology Co., Ltd | Zibo Intrue Light Industrial Products Co., Ltd | 35.71
Xuzhou Sheng Shi Glass Products Co., Ltd | Zibo Intrue Light Industrial Products Co., Ltd | 35.71
Shandong Baoxiang Glass Co., Ltd | Zibo Intrue Light Industrial Products Co., Ltd | 35.71
Zibo Longyu Glass Co., Ltd | Zibo Intrue Light Industrial Products Co., Ltd | 35.71
Shandong Yueshi Glass Products Co., Ltd | Zibo Intrue Light Industrial Products Co., Ltd | 35.71
Zibo Lijiang Light Industrial Products Co., Ltd | Zibo Lijiang Light Industrial Products Co., Ltd | 35.71
Zibo Boshan Shengjie Glass Products Co., Ltd | Zibo Lucky Ship International Trading Co., Ltd | 35.71
Jiangsu Rongtai Glass Products Co., Ltd | Zibo Lucky Ship International Trading Co., Ltd | 35.71
Jinan Yida Glass Products Co., Ltd | Zibo Lucky Ship International Trading Co., Ltd | 35.71
Shandong Luguan Glass Products Co., Ltd | Zibo Lucky Ship International Trading Co., Ltd | 35.71
Qingdao Weipaike Glass Trading Co., Ltd | Zibo Meienlanda International Trading Co., Ltd | 35.71
Xuzhou Hongrun Glass Products Co., Ltd | Zibo Melory Import & Export Trade Co., Ltd | 35.71
Jinan Yida Glass Products Co., Ltd | Zibo Melory Import & Export Trade Co., Ltd | 35.71
Shangdong Mounttai Sheng Li Yuan Glass Co., Ltd | Zibo Modern International Co., Ltd | 35.71
Shandong Hongda Glassware Co., Ltd | Zibo Modern International Co., Ltd | 35.71
Shandong Longyu Glassware Co., Ltd | Zibo Modern International Co., Ltd | 35.71
Xuzhou Supengyongxu Glass Products Co., Ltd | Zibo Modern International Co., Ltd | 35.71
Shandong Aolian Packaging Joint Stock Co., Ltd | Zibo Modern International Co., Ltd | 35.71
Shandong Changshengtai Glass Products Co, Ltd | Zibo Modern International Co., Ltd | 35.71
Shandong Luguan Glassware Co., Ltd | Zibo Redisland General Merchandise Co., Ltd | 35.71
Shandong Xukun Zhaoming Co., Ltd | Zibo Redisland General Merchandise Co., Ltd | 35.71
Jinan Yaotai Light Industrial Products Co., Ltd | Zibo Sailing Pacific Import And Export Co., Ltd | 35.71
Zibo Shelley Light Industrial Products Co., Ltd | Zibo Shelley Trading Co., Ltd | 35.71
Deqing Hangxiang Glass Products Co., Ltd | Zibo Sunfect International Trade Co., Ltd | 35.71
Hebei Fangyuan Glass Products Co., Ltd | Zibo Sunfect International Trade Co., Ltd | 35.71
Shandong Mounttai Sheng Li Yuan GLA | Zibo Sunfect International Trade Co., Ltd | 35.71
Wendeng Wensheng Glass Co., Ltd | Zibo Sunfect International Trade Co., Ltd | 35.71
Yantai NBC Glass Packaging Co. Ltd | Zibo Sunfect International Trade Co., Ltd | 35.71
Shandong Changshengtai Glass Products Co., Ltd | Zibo Top Arts Co., Ltd | 35.71
Zibo Top Glass Industry Co., Ltd | Zibo Top Glass Industry Co., Ltd | 35.71
ZiBo Boshan Shengjie Glass Product Co.,Ltd | Zibo Top-Peak Enterprises Ltd | 35.71
Zibo Truely Light Industrial Products Co., Ltd | Zibo Truely Light Industrial Products Co., Ltd | 35.71
Shandong Hongda Glassware Co., Ltd | Zibo Uni-Shine Industry Co., Ltd | 35.71
Xuzhou Juhui Glassware Co., Ltd | Zibo Uni-Shine Industry Co., Ltd | 35.71
Xuzhou Dazheng Glassware Co., Ltd | Zibo Uni-Shine Industry Co., Ltd | 35.71
Xuzhou Haoboyang Glass Products Co., Ltd | Zibo Uni-Shine Industry Co., Ltd | 35.71
Zibo Guge Glass Products Co., Ltd | Zibo Uni-Shine Industry Co., Ltd | 35.71
Hejian Fuling Glassware Co., Ltd | Zibo Uni-Shine Industry Co., Ltd | 35.71
Xuzhou Rongheng Glass Products Co., Ltd | Zibo Yadong Import and Export Trade Co., Ltd | 35.71
Zibo Boshan Shengjie Glass Products Co., Ltd | Zibo Yadong Import and Export Trade Co., Ltd | 35.71
Zibo Yede Light Industrial Products Co., Ltd | Zibo Yadong Import and Export Trade Co., Ltd | 35.71
Shandong Longyu Glass Products Co., Ltd | Zibo Yadong Import and Export Trade Co., Ltd | 35.71
Shandong Hongda GlassProducts Co., Ltd | Zibo Yuedai Shangmao Company Ltd | 35.71
Zibo Baoquan Light Industrial Products Co., Ltd | Zibo Yuedai Shangmao Company Ltd | 35.71
Shandong Juli Glass Co., Ltd | Zibo Yuedai Shangmao Company Ltd | 35.71
Zibo Boshan Shengjie Glass Products Co., Ltd | Zibo Yuedai Shangmao Company Ltd | 35.71
Xuzhou Xi'ao Glass Products Co., Ltd | Zibo Yuedai Shangmao Company Ltd | 35.71
Shandong Pingping Anan Trading Co., Ltd | Zibo Yuedai Shangmao Company Ltd | 35.71
Xuzhou Yichen Glass Products Co., Ltd | Zibo Yuedai Shangmao Company Ltd | 35.71
Shandong Taishan Shengliyuan Glass Co., Ltd | Zibo Yuedai Shangmao Company Ltd | 35.71
Zibo Mingxuan Light Industrial Products Co., Ltd | Zibo Yuedai Shangmao Company Ltd | 35.71
Zibo Yufeng Arts & Crafts Factory | Zibo Yuedai Shangmao Company Ltd | 35.71
Zibo Jiewei Light Industrial Products Co., Ltd | Zibo Yuedai Shangmao Company Ltd | 35.71
Zibo Boshan Fujie Metal Crafts Factory | Zibo Yuedai Shangmao Company Ltd | 35.71
Cixi Shunrun Plastic Product Factory | Zibo Yuedai Shangmao Company Ltd | 35.71
Zibo Xuanye Industry and Trade Co., Ltd | Zibo Yuedai Shangmao Company Ltd | 35.71
Xuzhou Tianyi Zhigai Co., Ltd | Zibo Yuedai Shangmao Company Ltd | 35.71
Zibo Xinshun Light Industrial Products Factory | Zibo Yuedai Shangmao Company Ltd | 35.71
Cixi Xinju Plastic Product Factory | Zibo Yuedai Shangmao Company Ltd | 35.71
Yiwu Hongzhi Jewelry Co., Ltd | Zibo Yuedai Shangmao Company Ltd | 35.71
Shandong Fulong Glass Technology Co. Ltd | Zibo Zhaohai Light Industrial Products Co., Ltd | 35.71
Shandong Taishan Shengliyuan Glass Co. Ltd | Zibo Zhaohai Light Industrial Products Co., Ltd | 35.71
Changshengtai Glass Products Co. Ltd | Zibo Zhaohai Light Industrial Products Co., Ltd | 35.71
Zibo Zhaohai Light Industrial Products Co., Ltd | Zibo Zhaohai Light Industrial Products Co., Ltd | 35.71
China-wide Entity | China-wide Entity | 255.68

Disclosure

Commerce intends to disclose its calculations and analysis performed to interested parties in this final determination within five days of any public announcement or, if there is no public announcement, within five days of the date of publication of this notice in accordance with 19 CFR 351.224(b).

Continuation of Suspension of Liquidation

In accordance with section 735(c)(1)(B) of the Act, Commerce will instruct U.S. Customs and Border Protection (CBP) to continue to suspend liquidation of all appropriate entries of certain glass containers from China, as described in the scope in Appendix I of this notice, entered, or withdrawn from warehouse, for consumption on or after April 29, 2020, the date of publication of the Preliminary Determination notice in the Federal Register.

Pursuant to section 735(c)(1)(B)(ii) of the Act, upon the publication of this notice, Commerce will instruct CBP to require a cash deposit equal to the weighted-average amount by which the normal value exceeds U.S. price as follows: (1) The cash deposit rate for the exporter/producer combinations listed in the table above will be the rate identified in the table; (2) for all combinations of Chinese exporters/producers of subject merchandise that have not received their own separate rate, the cash deposit rate will be the cash deposit rate established for the China-wide entity; and (3) for all non-Chinese exporters of subject merchandise which have not received their own separate rate, the cash deposit rate will be the cash deposit rate applicable to the Chinese exporter/producer combination that supplied that non-Chinese exporter. These suspension of liquidation instructions will remain in effect until further notice.

Although Commerce normally adjusts the estimated weighted-average dumping margins by the amount of domestic subsidy pass-through and export subsidies determined in a companion countervailing duty (CVD) proceeding when CVD provisional measures are in effect, in this case, the International Trade Commission (ITC) reached a negative determination in the companion CVD proceeding.⁷ Therefore, we have not adjusted the final cash deposit rates listed in the table above for domestic subsidy pass-through or export subsidies.

⁷ See Glass Containers from China, 85 FR 39932 (July 2, 2020).

International Trade Commission Notification

In accordance with section 735(d) of the Act, Commerce will notify the ITC of its final affirmative determination of sales at LTFV. Commerce will allow the ITC access to all privileged and business proprietary information in our files, provided the ITC confirms that it will not disclose such information, either publicly or under an administrative protective order (APO), without the written consent of the Assistant Secretary for Enforcement and Compliance. Because Commerce's final determination is affirmative, in accordance with section 735(b)(2) of the Act, the ITC will make its final determination as to whether the domestic industry in the United States is materially injured, or threatened with material injury, by reason of imports or sales (or the likelihood of sales) for importation of certain glass containers from China no later than 45 days after this final determination. If the ITC determines that such injury does not exist, this proceeding will be terminated, and all cash deposits posted will be refunded. If the ITC determines that such injury does exist, Commerce will issue an AD order directing CBP to assess, upon further instructions by Commerce, antidumping duties on all imports of the subject merchandise entered, or withdrawn from warehouse, for consumption on or after the effective date of the suspension of liquidation, as discussed above in the “Continuation of Suspension of Liquidation” section of this notice.

Notification Regarding Administrative Protective Orders

This notice will serve as a final reminder to the parties subject to an APO of their responsibility concerning the disposition of proprietary information disclosed under APO in accordance with 19 CFR 351.305. Timely written notification of return or destruction of APO materials or conversion to judicial protective order is hereby requested. Failure to comply with the regulations and the terms of an APO is a sanctionable violation.

Notification to Interested Parties

This determination is issued and published in accordance with sections 735(d) and 777(i)(1) of the Act and 19 CFR 351.210(c).

Dated: September 11, 2020.
Jeffrey I. Kessler,
Assistant Secretary for Enforcement and Compliance.

Appendix I

Scope of the Investigation

The merchandise covered by this investigation is certain glass containers with a nominal capacity of 0.059 liters (2.0 fluid ounces) up to and including 4.0 liters (135.256 fluid ounces) and an opening or mouth with a nominal outer diameter of 14 millimeters up to and including 120 millimeters. The scope includes glass jars, bottles, flasks and similar containers; with or without their closures; whether clear or colored; and with or without design or functional enhancements (including, but not limited to, handles, embossing, labeling, or etching).

Excluded from the scope of the investigation are: (1) Glass containers made of borosilicate glass, meeting United States Pharmacopeia requirements for Type 1 pharmaceutical containers; (2) glass containers without “mold seams,” “joint marks,” or “parting lines;” and (3) glass containers without a “finish” (i.e., the section of a container at the opening including the lip and ring or collar, threaded or otherwise compatible with a type of closure to seal the container's contents, including but not limited to a lid, cap, or cork).

Glass containers subject to the investigation are specified within the Harmonized Tariff Schedule of the United States (HTSUS) under subheadings 7010.90.5005, 7010.90.5009, 7010.90.5015, 7010.90.5019, 7010.90.5025, 7010.90.5029, 7010.90.5035, 7010.90.5039, 7010.90.5045, 7010.90.5049, and 7010.90.5055. The HTSUS subheadings are provided for convenience and customs purposes only. The written description of the scope of the investigation is dispositive.

Appendix II

List of Topics Discussed in the Issues and Decision Memorandum

I. Summary

II. Background

III. Scope of the Investigation

IV. Discussion of Issues

Comment 1: Selection of Primary Surrogate Country

Comment 2: Whether to Adjust Mexican Import Values Used as Surrogates to CIF Values

Comment 3: Commerce Should Correct Qixia Changyu's Brokerage and Handling Calculation

Comment 4: Adjustment of Flint Cullet Surrogate Value

Comment 5: Treatment of Molds as a Factor of Production (FOP)

Comment 6: The Appropriate Surrogate Value for Calcium Carbonate

Comment 7: Incorrect Application of Moving Expenses to Huaxing's Ex-Works Sales

Comment 8: Double Counted Brokerage and Handling Expenses

Comment 9: Decision Not to Grant a Double-Remedy Offset

Comment 10: Decision Not to Grant Separate Rate Status for Certain Applicants

Comment 11: Missing Producer in a Combination Rate

V. Recommendation

[FR Doc. 2020-20644 Filed 9-17-20; 8:45 am]

BILLING CODE 3510-DS-P